ENVIRONMENTAL PROTECTION AGENCY

40 CFR Part 52

[EPA-R09-OAR-2014-0172; FRL-9907-53-Region-9]

Approval of Air Quality Implementation Plans; California; Ventura County Air Pollution Control District; Reasonably Available Control Technology for Ozone

AGENCY: Environmental Protection Agency (EPA).

ACTION: Proposed rule.

SUMMARY: The Environmental Protection Agency (EPA) is proposing to approve a State Implementation Plan (SIP) revision submitted by California for the Ventura County Air Pollution Control District (VCAPCD) portion of the California SIP. The submitted SIP revision contains the District's demonstration regarding Reasonably Available Control Technology (RACT) requirements for the 1997 8-hour ozone National Ambient Air Quality Standards (NAAQS). We are proposing to approve the submitted SIP revision under Clean Air Act as amended in 1990 (CAA or the Act). We are taking comments on this proposal and plan to follow with a final action.

DATES: Any comments must arrive by April 9, 2014.

ADDRESSES: Submit comments, identified by docket number EPA-R09-OAR-2014-0172, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment.

Docket: Generally, documents in the docket for this action are available electronically at www.regulations.gov and in hard copy at EPA Region IX, 75 Hawthorne Street, San Francisco, California. While all documents in the docket are listed at www.regulations.gov, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us” and “our” refer to EPA.

Table of Contents

I. The State's Submittal.

A. What document did the State submit?

B. Are there other versions of this document?

C. What is the purpose of the RACT SIP submission?

II. EPA's Evaluation and Proposed Action.

A. How is EPA evaluating the RACT SIP submission?

B. Does the RACT SIP submission meet the evaluation criteria?

C. EPA recommendations to strengthen the RACT SIP.

D. Proposed action and public comment.

III. Statutory and Executive Order Reviews.

I. The State's Submittal.

A. What document did the State submit?

Table 1 lists the document addressed by this proposal with the date that it was adopted by the local air agency and submitted by the California Air Resources Board.

Table 1—Submitted Document
Local agency | Document | Adopted | Submitted
VCAPCD | Reasonably Available Control Technology State Implementation Plan Revision (2009 RACT SIP Revision) as adopted September 15, 2009 (“2009 RACT SIP”) | 9/15/09 | 11/17/09

VCAPCD's 2009 RACT SIP became complete by operation of law under CAA section 110(k)(1)(B) on May 17, 2010.

B. Are there other versions of this document?

While there is no previous version of VCAPCD's 2009 RACT SIP in the SIP, VCAPCD adopted and we approved VCAPCD's 2006 RACT SIP analysis on April 21, 2009 (74 FR 18148).

C. What is the purpose of the RACT SIP submission?

Volatile organic compounds (VOCs) and nitrogen oxides (NOX) help produce ground-level ozone and smog, which harm human health and the environment. Section 110(a) of the CAA requires States to submit enforceable regulations that control VOC and NOX emissions. Sections 182(b)(2) and (f) require that SIPs for ozone nonattainment areas classified as moderate or above require implementation of RACT for any source covered by a Control Techniques Guideline (CTG) document and any other major stationary source of VOCs or NOX. The VCAPCD is subject to this requirement as it is designated and classified as a serious ozone nonattainment area for the 1997 8-hour ozone NAAQS. 40 C.F.R. 81.305; 73 FR 29073 (May 20, 2008) (final rule designating and classifying Ventura County APCD as serious nonattainment for the 1997 8-hour ozone NAAQs). On December 3, 2012, (77 FR 71551) EPA published a final rule determining that Ventura County attained the 1997 8-hour ozone standard. EPA's attainment determination suspended the requirements for Ventura to submit an attainment demonstration and associated planning SIPs related to attainment of the 1997 8-hour ozone NAAQS for so long as the area continues to attain the standards, but did not suspend Ventura's obligation to meet the specific RACT control requirements under CAA 182(b)(2) and (f). 40 CFR 51.918. Therefore, VCAPCD must, at a minimum, adopt RACT-level controls for all sources covered by a CTG document and for all major non-CTG sources of VOCs or NOX. Any stationary source that emits or has a potential to emit at least 50 tons per year (tpy) of VOCs or NOX is a major stationary source in a serious ozone nonattainment area. CAA 182(c), (f).

Section IV.G. of EPA's final rule to implement the 1997 8-hour ozone NAAQS (70 FR 71612, November 29, 2005) discusses RACT requirements. It states in part that where a RACT SIP is required, States implementing the 8-hour standard generally must assure that RACT is met either through a certification that previously required RACT controls represent RACT for 8-hour implementation purposes or through a new RACT determination. The submitted document updates and supplements VCAPCD's 2006 RACT SIP analyses and demonstrates its compliance with 11 new or revised CTGs EPA issued between 2006 and 2008. EPA's technical support document (TSD) “2009 RACT SIP TSD” has more information about the District's submission and EPA's evaluation thereof.

II. EPA's Evaluation and Proposed Action

A. How is EPA evaluating the RACT SIP submission?

Rules and guidance documents that we use to evaluate CAA section 182 RACT SIPs include the following:

1. “Final Rule to Implement the 8-Hour Ozone National Ambient Air Quality Standard—Phase 2” (70 FR 71612; November 29, 2005).

2. “State Implementation Plans, General Preamble for the Implementation of Title I of the Clean Air Act Amendments of 1990” (57 FR 13498; April 16, 1992).

3. Issues Relating to VOC Regulation Cutpoints, Deficiencies, and Deviations: Clarification to Appendix D of November 24, 1987 Federal Register, May 25, 1988, U.S. EPA, Air Quality Management Division, Office of Air Quality Planning and Standards (“The Blue Book”).

4. Guidance Document for Correcting Common VOC and Other Rule Deficiencies, August 21, 2001, U.S. EPA Region IX (the “Little Bluebook”).

5. “State Implementation Plans; Nitrogen Oxides Supplement to the General Preamble for the Implementation of Title I of the Clean Air Act Amendments of 1990” (57 FR 55620, November 25, 1992) (“the NOX Supplement”).

6. RACT SIPs, Letter dated March 9, 2006 from EPA Region IX (Andrew Steckel) to CARB (Kurt Karperos) describing Region IX's understanding of what constitutes a minimally acceptable RACT SIP.

7. Memorandum from William T. Harnett to Regional Air Division Directors, (May 18, 2006), “RACT Qs & As—Reasonably Available Control Technology (RACT) Questions and Answers.”

8. CTGs issued by EPA between 2006 and 2008 http://www.epa.gov/glo/SIPToolkit/ctgs.html.

With respect to major stationary sources, the Ventura County APCD nonattainment area is classified as “serious” nonattainment for the 1997 8-hour ozone NAAQS. While major sources in serious ozone nonattainment areas are defined as those emitting at least 50 tons per year (tpy) of VOC or NOX (CAA 182(c) and (f)), VCAPCD's 2009 RACT SIP analyzed major sources with at least 25 tpy of NOX or VOC.

B. Does the RACT SIP submission meet the evaluation criteria?

The 2009 RACT SIP updates and supplements the District's 2006 RACT SIP and provides the District's certification that the applicable SIP for the Ventura County APCD satisfies CAA section 182 RACT requirements for the 1997 8-hour ozone NAAQS for the 11 new or revised CTGs EPA issued between 2006 and 2008. This certification is based on the District's analyses of SIP-approved requirements that apply to: (1) new or revised CTGs issued between 2006 and 2008; and (2) all other major stationary sources of NOx or VOC emissions. VCAPCD's 2009 RACT SIP includes a detailed analysis of specific SIP rules including discussions of how those rules meet the applicable CTG for the 1997 8-hour ozone NAAQS.

Where there are no existing sources covered by a particular CTG document, states may, in lieu of adopting RACT requirements for those sources, adopt negative declarations certifying that there are no such sources in the relevant nonattainment area. Table 2 below lists all of the source categories for which VCAPCD's 2009 RACT SIP provides negative declarations.

Table 2—VCAPCD Negative Declarations
CTG Source Category | CTG Document Title
Flat Wood Paneling Coatings | EPA-453/R06-004 Control Techniques Guidelines for Flat Wood Paneling Coatings
Large Appliance Coatings | EPA-453/R-07-004 Control Techniques Guidelines for Large Appliance Coatings
Paper, Film and Foil Coatings | EPA-453/R-07-003 Control Techniques Guidelines for Paper, Film, and Foil Coatings
Automobile and Light-Duty Truck Assembly Coatings | EPA-452/R-08-006 Control Techniques Guidelines for Automobile and Light-Duty Truck Assembly Coatings
Miscellaneous Industrial Adhesives | EPA 453/R-08-005 Control Techniques Guidelines for Miscellaneous Industrial Adhesives
Flexible Package Printing | EPA 453/R-06-003 Control Techniques Guidelines for Flexible Package Printing
Metal Furniture Coatings | EPA 453/R-07-005 Control Techniques Guidelines for Metal Furniture Coatings
Fiberglass Boat Manufacturing Materials | EPA 453/R-08-004 Control Techniques Guidelines for Fiberglass Boat Manufacturing Materials

We are proposing to find that VCAPCD's 2009 RACT SIP submission, including all of these negative declarations, adequately demonstrate that the 11 CTGs EPA issued between 2006 and 2008 are either covered by SIP rules which satisfy RACT for the 1997 8-hour ozone NAAQS or the District has adopted negative declarations certifying they have no sources subject to the specific CTG source category.

With respect to certain non-CTG source categories that are major stationary sources of NOX or VOC emissions, VCAPCD's 2009 RACT SIP states that “since the 2006 RACT SIP considered CTG sources and major non-CTG VOC and NOX sources down to 25 tons per year, the 2006 RACT SIP is able to serve as the District's serious area RACT certification.” ¹

¹ 2009 RACT SIP Attachment III page 3.

Our review of CARB's 2006 and 2008 emissions inventory database for VCAPCD sources identified two additional sources (oil production and electrical power generation) exceeding the District's 25 tpy threshold for major sources but below the 50 tpy threshold for CAA serious ozone nonattainment areas. Both sources are covered by SIP-approved RACT rules. The electrical power generating station is covered by VCAPCD Rule 59 “Electric Power Generating Equipment” and operates two natural gas fired steam generators equipped with selective catalytic reduction and ammonia injection. The facility only operates when requested by the California Independent System Operator (CAISO). Since Rule 59 was last amended in 1997, it may be an area to investigate for potential emission reductions when the District next evaluates RACT for the 2008 8-hour ozone standard. Based on EPA's review of the District's evaluations, we propose to conclude that all of the 2006-2008 CTGs are either covered by SIP-approved rules which satisfy RACT for the 1997 8-hour ozone NAAQS or the District has adopted negative declarations where they do not have sources subject to a CTG. The TSD has more information on our evaluation.

C. EPA Recommendations To Strengthen the RACT SIP

We recommend VCAPCD investigate Rule 59 for potential emissions reductions when the District next evaluates RACT for the 2008 8-hour ozone standard. We discuss this recommendation further in our TSD.

D. Proposed Action and Public Comment

Based on the evaluations discussed above and more fully in our TSD, we are proposing to conclude that VCAPCD's 2009 RACT SIP satisfies CAA section 182 RACT requirements for the 1997 8-hour ozone NAAQS and to fully approve this submission into the California SIP pursuant to section 110(k)(3) of the Act. We will accept comments from the public on this proposal for the next 30 days. Unless we receive convincing new information during the comment period, we intend to publish a final approval action that will incorporate this RACT submission into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. This action merely proposes to approve State law as meeting Federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects with practical, appropriate, and legally permissible methods under Executive Order 12898 (59 FR 7629, February 16, 1994).

In addition, this proposed action does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: February 24, 2014.
Jared Blumenfeld,
Regional Administrator, Region IX.

[FR Doc. 2014-05102 Filed 3-7-14; 8:45 am]

BILLING CODE 6560-50-P